FEDERAL COMMUNICATIONS COMMISSION

47 CFR Part 80

[WT Docket No. 04-344; FCC 06-108]

Maritime Communications

AGENCY: Federal Communications Commission.

ACTION: Proposed rule.

SUMMARY: In this document, the Federal Communications Commission (Commission) requests additional comment on issues pertaining to maritime Automatic Identification Systems (AIS). AIS is an important tool for enhancing maritime safety and homeland security. Having determined in the Report and Order in this proceeding that VHF maritime Channels 87B and 88B should be allocated for exclusive AIS use, in keeping with the international allocation of those channels for AIS, the Commission now seeks comment on whether the designation of those channels for ASIS should be effective throughout the Nation or, as the Commission initially proposed, only in the nine maritime VHF public coast (VPC) service areas (VPCSAs). The Commission asks commenters to consider, in this regard, the United States Coast Guard's plans to develop satellite AIS tracking capabilities. Second, the Commission requests comment on equipment standards and other issues pertaining to AIS base stations. Finally, the Commission requests comment on a proposed standard for authorizing Class B AIS devices.

DATES: Submit comments on or before November 13, 2006, and reply comments are due on or before November 27, 2006.

ADDRESSES: You may submit comments, identified by WT Docket No. 04-344; FCC 06-108, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's Further Notice of Proposed Rulemaking (FNPRM) in WT Docket No. 04-344, FCC 06-108, adopted on July 20, 2006, and released on July 24, 2006. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by sending an e-mail to fcc504@fcc.gov or by calling the Consumer & Governmental Affairs Bureau at 202-418-0530 (voice), 202-418-0432 (tty).

1. The Commission tentatively concluded in the Notice of Proposed Rule Making in this proceeding (AIS NPRM) that Channel 87B should be designated for exclusive AIS use only in the nine maritime VPCSAs. The National Telecommunications and Information Administration (NTIA) and other commenters disagree, arguing that the designation of Channel 87B for AIS should apply throughout the Nation, including the inland VPCSAs as well as the maritime VPCSAs. Although the proponents of a nationwide designation offer several considerations in support of their position, NTIA and ORBCOMM, Inc. have emphasized that satellite AIS capabilities may be developed, and that the effectiveness of satellite AIS depends to a great deal on the establishment of a truly nationwide AIS channel designation. The possibility of satellite AIS was not discussed in the AIS NPRM, however, and was not introduced into the record of this proceeding until NTIA filed comments, and ORBCOMM, Inc. reply comments, addressing the issue. The Commission therefore believes that it would be beneficial to obtain further information regarding satellite AIS before deciding this important and complex issue. The Commission requests, in particular, that interested parties provide technical and operational information regarding satellite AIS, including its susceptibility to interference from terrestrial stations, and discuss the public interest costs and benefits of satellite AIS. Commenters should also address whether satellite AIS can function adequately without a nationwide designation of Channel 87B for AIS.

2. In addition to providing information specifically with respect to satellite AIS, interested parties are again invited to address the larger issue of whether the designation of Channel 87B for AIS should be limited to the maritime VPCSAs or should cover the entire Nation, whether or not satellite AIS proves feasible. The Commission would especially welcome input on this issue from licensees of inland VPCSAs. In addition, the Commission requests further comment on the potential benefits of terrestrial AIS in inland areas. The Commission also requests that commenters provide more information on the extent to which vessels on navigable waterways in the inland VPCSAs may benefit from AIS on the one hand, and VPC services, including maritime public correspondence services, on the other.

3. As the Commission noted in the AIS NPRM, two duplex channels in each inland VPCSA are set aside for public safety use. These channels are designated for interoperability operations in the inland VPCSAs. The Commission's Universal Licensing System database indicates that only two public safety entities are licensed for these channels. The Commission has designated other spectrum in the VHF and other bands, for interoperability operations. The Commission therefore seeks comment on whether, in the event it designates Channel 87B for exclusive AIS use nationwide, it would be appropriate to redesignate any of these set-aside channels for VPC use in order to avoid a negative impact on inland VPCSA licensees.

4. NTIA observes that the International Electrotechnical Commission (IEC) is in the process of developing AIS base station equipment standards, and says that the Commission should address issues concerning the authorization, coordination, and operation of AIS base stations. The Commission agrees, and does not believe it necessary to defer requesting comment on these questions until the IEC completes its work. Requesting comment at this stage will permit the Commission to more expeditiously amend its rules following the development of the IEC standards, either to incorporate the IEC standards, promulgate different standards, or take other appropriate action. In addition, it may be possible to crystallize some of the relevant issues even before the IEC publishes its AIS base station standards. The Commission accordingly requests comment on standards and procedures for authorizing AIS base station equipment. The Commission also requests comment on what, if any, rules it should adopt for the licensing and use of AIS base stations, including, for example, license eligibility criteria, an appropriate license term, and whether AIS base station licenses should be assignable. With respect to operational issues, commenters should address, for example, limits on permissible communications, and whether AIS base stations should be permitted to operate on a for-profit basis.

5. NTIA notes that low-cost, Class B AIS devices are being developed for vessels not covered by a mandatory carriage requirement under the International Convention for the Safety of Life at Sea. Class B AIS devices are intended to provide a less expensive alternative to Class A AIS equipment, while still providing vessel information critical to maritime safety and security. In standardizing AIS, the ITU Radiocommunications Sector Recommendation 1371-1, “Technical characteristics for a universal shipborne Automatic Identification System (AIS) using SOTDMA (Self-Organizing Time Division).”

6. “Multiple Access in the VHF maritime mobile band,” provides for a Class B AIS device. The Commission notes, moreover, that the IEC recently adopted and published an international standard, IEC 62287-1, that sets forth requirements and test procedures for Class B AIS equipment. During the development of this Class B AIS standard, concerns arose regarding the potential impact on the operation of the AIS network from widespread deployment of Class B AIS devices that are not compatible with the Class A devices used on SOLAS ships, AIS base stations, and AIS-equipped Aids to Navigation. To resolve these concerns, a network access technology was developed that allows large numbers of Class B-fitted vessels to coexist with Class A-fitted vessels with negligible detrimental effect on the AIS network. This new technology, known as Carrier Sense TDMA (CS or CSTDMA), requires that the Class B CS AIS device “listen” to the AIS network, and then determine that the network is free of competing traffic before transmitting. This “polite” operation of Class B CS AIS devices minimizes the probability of their causing interference to Class A devices and other AIS network operations.

7. The Commission believes that accommodating Class B devices under its rules will advance the goal of ensuring that AIS is deployed widely, quickly, reliably, cost-effectively, and in a manner that will maximize its capabilities. Class B AIS devices can significantly enhance the overall effectiveness of AIS at a low cost. In addition, the IEC 62287-1 international standard appears to adequately protect the overall AIS network. The Commission tentatively concludes, therefore, that it should amend its part 80 rules to incorporate by reference the IEC 62287-1 standard and provide for the certification of Class B AIS equipment that complies with that standard. The Commission believes this action will promote the domestic public interest by facilitating the sale, installation and use of internationally interoperable Class B AIS devices in the United States. It invites comment on this proposal generally, and, more specifically, on the merits of proposed new § 80.231.

8. In addition, the Commission requests comment on the measures, if any, that it might take to ensure the accuracy of AIS data transmitted via Class B AIS devices. Class B AIS devices broadcast such user-programmed information as Maritime Mobile Service Identity (MMSI) number, vessel name, vessel type, call sign and dimension of the ship and reference point for reported position. They also broadcast such dynamic information as true heading, speed over ground and course over ground. Ships, vessel traffic systems and others often make navigation decisions based upon the accuracy of the information received. The Commission seeks comments regarding means which could be employed to ensure that user-programmed as well as dynamic data on AIS units used on non-compulsory ships is accurate.

I. Procedural Matters

A. Ex Parte Rules—Permit-But-Disclose Proceeding

9. This is a permit-but-disclose notice and comment rulemaking proceeding. Ex parte presentations are permitted, except during the Sunshine Agenda period, provided they are disclosed as provided in the Commission's rules.

B. Comment Dates

10. Pursuant to §§ 1.415 and 1.419 of the Commission's rules, 47 CFR 1.415, 1.419, interested parties may file comments on or before November 13, 2006 and reply comments on or before November 27, 2006. All filings related to this Further Notice of Proposed Rule Making should refer to WT Docket No. 04-344.

11. Comments may be filed using the Commission's Electronic Comment Filing System (ECFS), the Federal Government's eRulemaking Portal, or by filing paper copies. See Electronic Filing of Documents in Rulemaking Proceedings, 63 FR 24121 (1998).

12. Comments may be filed electronically using the Internet by accessing the ECFS: http://www.fcc.gov/cgb/ecfs/ or the Federal eRulemaking Portal: http://www.regulations.gov. Filers should follow the instructions provided on the Web site for submitting comments.

13. For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

14. Parties who choose to file by paper must file an original and four copies of each filing. If more than one docket or rulemaking number appears in the caption of this proceeding, filers must submit two additional copies for each additional docket or rulemaking number.

15. Filings can be sent by hand or messenger delivery, by commercial overnight courier, or by first-class or overnight U.S. Postal Service mail (although we continue to experience delays in receiving U.S. Postal Service mail). All filings must be addressed to the Commission's Secretary, Office of the Secretary, Federal Communications Commission.

16. The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

17. Commercial overnight mail (other than U.S. Postal Service Express Mail and Priority Mail) must be sent to 9300 East Hampton Drive, Capitol Heights, MD 20743.

18. U.S. Postal Service first-class, Express, and Priority mail should be addressed to 445 12th Street, SW., Washington DC 20554.

19. All filings must be addressed to the Commission's Secretary, Marlene H. Dortch, Office of the Secretary, Federal Communications Commission, 445 12th Street, SW., Washington, DC 20554. Parties shall also serve one copy with the Commission's copy contractor, Best Copy and Printing, Inc. (BCPI), Portals II, 445 12th Street, SW., Room CY-B402, Washington, DC 20554, (202) 488-5300, or via e-mail to fcc@bcpiweb.com.

20. Availability of documents. The public may view the documents filed in this proceeding during regular business hours in the FCC Reference Information Center, Federal Communications Commission, 445 12th Street, SW., Room CY-A257, Washington, DC 20554, and on the Commission's Internet Home Page: http://www.fcc.gov. Copies of comments and reply comments are also available through the Commission's duplicating contractor: Best Copy and Printing, Inc. (BCPI), Portals II, 445 12th Street, SW., Room CY-B402, Washington, DC 20554, telephone 1-800-378-3160, or via e-mail at the following e-mail address: http://www.bcpiweb.com. To request materials in accessible formats for people with disabilities (braille, large print, electronic files, audio format), send an e-mail to fcc504@fcc.gov or call the Consumer & Governmental Affairs Bureau at 202-418-0530 (voice), 202-418-0432 (tty).

C. Paperwork Reduction Act

21. The action contained herein has been analyzed with respect to the Paperwork Reduction Act of 1995 (PRA) and found to impose no new or modified reporting or recordkeeping requirements or burdens to the public, including businesses with fewer than 25 employees.

22. Specifically, in the FNPRM, the Commission proposes to establish requirements for the certification of Class B AIS devices. If adopted, the proposed rule would require, among other things, that applicants for certification submit specified information, including copies of test reports and test data, to the United States Coast Guard prior to filing their applications with the Commission, and that they include with their applications to the Commission copies of letters from the United States Coast Guard stating that the device in question satisfies all of the requirements of the pertinent international standard, IEC 62287-1, “Maritime navigation and radio communication equipment and systems—Class B shipborne equipment of the automatic identification system—Part 1: Carrier-sense time division multiple access (CSTDMA) techniques,” 2006 (IEC 62287-1). The Commission does not believe that the requirement to submit this information would impose a significant increased administrative burden on businesses with fewer than 25 employees, primarily because such businesses would need to submit the same or similar information in order to obtain certification for Class B AIS devices under international requirements. By incorporating the international standard into the Commission's rules, rather than establishing a different standard, the Commission's proposed rule would avoid subjecting businesses to disparate equipment certification requirements for Class B AIS devices. In addition, whatever burden the Commission's proposed rule might impose on businesses with fewer than 25 employees is more than justified by the underlying purpose of the rule, which to ensure that Class B devices operate effectively and safely, and are interoperable with other AIS devices. Given the important role AIS is to play in promoting homeland security and maritime safety, the public interest in establishing rules for the certification of Class B AIS devices outweighs the minimal burden it might impose on businesses with fewer than 25 employees.

II. Supplemental Initial Regulatory Flexibility Analysis

23. As required by the Regulatory Flexibility Act (RFA) as amended, the Commission has prepared this present supplemental Initial Regulatory Flexibility Analysis (IRFA) of the possible significant economic impact on a substantial number of small entities of the policies and rules proposed in this Further Notice of Proposed Rule Making in WT Docket No. 04-344 (FNPRM). Written public comments are requested on this IRFA. Comments must be identified as responses to the IRFA and must be filed by the deadlines for comments on the FNPRM as provided in paragraph 74 of the item. The Commission will send a copy of the FNPRM, including the IRFA, to the Chief Counsel for Advocacy of the Small Business Administration. In addition, the FNPRM and IRFA (or summaries thereof) will be published in the Federal Register.

Need for, and Objectives of, the Proposed Rules

24. In the FNPRM, the Commission contemplates rules changes involving three issues. First, with the objective of ensuring that AIS operations are implemented in an effective and efficient manner without imposing unnecessary restrictions on a VPC operations, the Commission requests comment as to whether there is a need to revisit the issue of the appropriate geographic scope of the AIS set-aside, i.e., whether it should be nationwide or limited to the nine maritime VPCSAs. The Commission seeks comment, in particular, on whether and how the potential development of satellite AIS should weigh in that decision. Second, with the objective of ensuring that AIS base stations operate in a manner consonant with the overall goals and purposes of AIS, the Commission requests comment on equipment certification, licensing, and other issues pertaining to AIS base stations. The Commission notes, in this regard, that AIS base stations are a critical component of the AIS network, and that there is an apparent need for some regulation of AIS base stations just as there is a need for some regulation of AIS ship stations. Finally, with the objective of accommodating Class B as well as Class A AIS devices, the Commission requests comment on the Commission's proposal to incorporate by reference IEC 62287-1, “Maritime navigation and radio communication equipment and systems—Class B shipborne equipment of the automatic identification system—Part 1: Carrier-sense time division multiple access (CSTDMA) techniques,” 2006 (IEC 62287-1), as the standard for certifying Class B AIS devices under part 80 of the Commission's rules.

Legal Basis for Proposed Rules

25. The proposed action is authorized under sections 1, 4(i), 302, 303(f) and (r), and 332 of the Communications Act of 1934, as amended, 47 U.S.C. 1, 154(i), 302, 303(f) and (r), and 332.

Description and Estimate of the Number of Small Entities To Which the Proposed Rules Will Apply

26. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act.. A small business concern is one which: (1) Is independently owned and operated; (2) is not dominant in its field of operation; and (3) satisfies any additional criteria established by the Small Business Administration (SBA).

27. Small businesses in the aviation and marine radio services use a very high frequency (VHF) marine or aircraft radio and, as appropriate, an emergency position-indicating radio beacon (and/or radar) or an emergency locator transmitter. The Commission has not developed a small business size standard specifically applicable to these small businesses. For purposes of this analysis, the Commission uses the SBA small business size standard for the category “Cellular and Other Wireless Telecommunications,” which is 1,500 or fewer employees. Between December 3, 1998 and December 14, 1998, the Commission held an auction of 42 VHF Public Coast (VPC) licenses in the 157.1875-157.4500 MHz (ship transmit) and 161.775-162.0125 MHz (coast transmit) bands. For purposes of the auction, the Commission defined a “small” business as an entity that, together with controlling interests and affiliates, has average gross revenues for the preceding three years not to exceed fifteen million dollars. In addition, a “very small” business is one that, together with controlling interests and affiliates, has average gross revenues for the preceding three years not to exceed three million dollars. There are approximately 10,672 licensees in the Marine Coast Service, and the Commission estimates that almost all of them qualify as “small” businesses under the above special small business size standards.

Description of Projected Reporting, Recordkeeping, and Other Compliance Requirements

28. There are no projected reporting, recordkeeping or other compliance requirements.

Steps Taken To Minimize Significant Economic Impact on Small Entities, and Significant Alternatives Considered

29. The RFA requires an agency to describe any significant, specifically small business, alternatives that it has considered in reaching its proposed approach, which may include the following four alternatives (among others): “(1) The establishment of differing compliance or reporting requirements or timetables that take into account the resources available to small entities; (2) the clarification, consolidation, or simplification of compliance or reporting requirements under the rule for small entities; (3) the use of performance rather than design standards; and (4) an exemption from coverage of the rule, or any part thereof, for small entities.”

30. In the FNPRM, the Commission asks that interested parties, and in particular inland VPCSA licensees, provide information on the potential impact on inland VPCSA licensees of designating Channel 87B for AIS use exclusively throughout the Nation. To the extent that commenters foresee such an impact, they are invited to suggest alternatives that would minimize or eliminate any adverse effect on small entities. For example, commenters may suggest that inland VPCSA licensees be accorded treatment similar to that which we are providing to site-based incumbent licensees, permitting them to continue to operate on Channel 87B on a shared basis with AIS for the remainder of their current license terms, but with no opportunity for renewal of the licenses. Commenters may also address the possibility of migrating such licensees to different channels if such were available.

31. In the FNPRM, the Commission also invites comment on rules to govern AIS base stations, including certification standards for AIS base station equipment. In the absence of specific proposals, we invite interested parties to consider generally whether any special measures should be adopted in the AIS base station rules to prevent a significant adverse impact on small entities. Parties providing such comments should also address the extent to which they believe small entities may seek to become AIS base station licensees.

32. Finally, the Commission requests comment in the FNPRM on its proposal to incorporate by reference IEC 62287-1, “Maritime navigation and radio communication equipment and systems—Class B shipborne equipment of the automatic identification system—Part 1: Carrier-sense time division multiple access (CSTDMA) techniques,” 2006 (IEC 62287-1), as the standard for certifying Class B AIS devices under part 80 of the Commission's rules. The Commission believes that incorporating by reference the international standard for Class B AIS devices will reduce costs to manufacturers by eliminating the possible need to design devices to two potentially conflicting standards, and will reduce costs to users of the devices both from a pass-through of manufacturers' cost savings and by eliminating the possible need to fit their vessels with more than one Class B AIS device if they travel outside U.S. territorial waters, i.e., removing the need to carry one Class B AIS device to function within U.S. territorial waters, and another Class B AIS device to function in international waters or other nations' territorial waters. The Commission notes, in addition, that Class B AIS devices are intended generally for use on vessels that are not required by law to carry AIS devices. Since carriage of Class B AIS devices is voluntary, the establishment of standards for certifying such devices should not impose a new compliance burden on vessel operators. However, to the extent that any commenters believe that he establishment of equipment certification standards for Class B AIS devices may impose a significant new compliance burden on any small entities, the Commission invites them to suggest alternative or complementary approaches that may reduce or eliminate that burden, including, but not limited to, the establishment of less rigorous standards, or the provision of exemptions or grandfathering protection for small entities.

Federal Rules That May Duplicate, Overlap, or Conflict With the Proposed Rules

33. None.

III. Ordering Clauses

34. Pursuant to Sections 4(i), 303(r), and 403 of the Communications Act of 1934, as amended, 47 U.S.C. 154(i), 303(r) and 403, this Further Notice of Proposed Rule Making is adopted.

35. It is further ordered that pursuant to the applicable procedures set forth in §§ 1.415 and 1.419 of the Commission's Rules, 47 CFR 1.415, 1.419, interested parties may file comments on the Further Notice of Proposed Rulemaking on or before November 13, 2006 and reply comments on or before November 27, 2006.

36. It is further ordered that the Commission's Consumer Information Bureau, Reference Information Center, shall send a copy of the Further Notice of Proposed Rulemaking and the IRFA, to the Chief Counsel for Advocacy of the Small Business Administration.

List of Subjects in 47 CFR Part 80

Communications, Radio.

Federal Communications Commission.
Marlene H. Dortch,
Secretary.

Proposed Rule Changes

For the reasons discussed in the preamble, the Federal Communications Commission proposes to amend 47 CFR part 80 as follows:

PART 80—STATIONS IN THE MARITIME SERVICES

1. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Section 80.231 is added to read as follows:

§ 80.231 Technical Requirements for Class B Automatic Identification System (AIS) equipment.

(a) Class B Automatic Identification System (AIS) equipment must meet the technical requirements of the International Electrotechnical Commission (IEC) 62287-1 International Standard, “Maritime navigation and radio communication equipment and systems—Class B shipborne equipment of the Automatic Identification System—Part 1: Carrier -sense time division multiple access (CSTDMA) techniques,” 2006. The Director of the Federal Register approves this incorporation by reference in accordance with 5 U.S.C. 552(a) and 1 CFR part 51. Copies of these standards can be inspected at the Federal Communications Commission, 445 12th Street, SW., Washington, DC (Reference Information Center) or at the National Archives and Records Administration (NARA). For information on the availability of this material at NARA, call 202-741-6030 or, go to: http://www.archives.gov/federal_register/code_of_federal_regulations/ibr_locations.html. IEC publications can be purchased from the International Electro-technical Commission, 3 Rue de Varembe, CH-1211 Geneva 20, Switzerland, or from the American National Standards Institute (ANSI), 25 West 43rd Street, New York, NY 10036, telephone (212) 642-4900.

(b) Prior to submitting a certification application for a Class B AIS device, the following information must be submitted in duplicate to the Commandant (G-PSE), U.S. Coast Guard, 2100 2nd Street, SW., Washington, DC 20593-0001:

(1) The name of the manufacturer or grantee and the model number of the AIS device;

(2) Copies of the test report and test data obtained from the test facility showing that the device complies with the environmental and operational requirements identified in IEC 62287-1.

(c) After reviewing the information described in paragraph (b) of this section, the U.S. Coast Guard will issue a letter stating whether the AIS device satisfies all of the requirements specified in IEC 62287-1.

(d) A certification application for an AIS device submitted to the Commission must contain a copy of the U.S. Coast Guard letter stating that the device satisfies all of the requirements specified in IEC 62287-1, a copy of the technical test data, and the instruction manual(s).

3. Section 80.275 is amended by revising the section heading and paragraph (a) introductory text to read as follows:

§ 80.275 Technical Requirements for Class A Automatic Identification System (AIS) equipment.

(a) Prior to submitting a certification application for a Class A AIS device, the following information must be submitted in duplicate to the Commandant (G-MSE), U.S. Coast Guard, 2100 2nd Street, SW., Washington DC 20593-0001:

* * * * *

4. Section 80.1101 is amended by adding paragraph (c)(12)(vi) to read as follows:

§ 80.1101 Performance standards.

(c) * * *

(12) * * *

(vi) with respect to Class B AIS devices only, IEC 62287-1 International Standard, “Maritime navigation and radio communication equipment and systems—Class B shipborne equipment of the Automatic Identification System—Part 1: Carrier—sense time division multiple access (CSTDMA) techniques,” 2006.

* * * * *

[FR Doc. E6-16832 Filed 10-11-06; 8:45 am]

BILLING CODE 6712-01-P